DEPARTMENT OF JUSTICE

Notice of Lodging of Proposed Consent Decree Under the Clean Air Act

On March 9, 2018, the Department of Justice lodged a proposed Consent Decree with the United States District Court for District of Utah in the lawsuit entitled United States v. Kinder Morgan Altamont LLC and Colorado Interstate Gas Company, L.L.C., Civil Action No. 2:18-cv-00212-DBP. In a civil action filed on March 9, 2018, under Section 113(a) of the Clean Air Act, 42 U.S.C. 7413(a), the United States, on behalf of the Environmental Protection Agency, alleged defendants Kinder Morgan Altamont LLC and Colorado Interstate Gas Company, L.L.C violated Section 112(r) of the Clean Air Act, 42 U.S.C. 7412(r), by failing to comply with the chemical accident prevention regulations at 40 CFR part 68. In the Complaint, the United States sought injunctive relief and penalties.

The proposed Consent Decree resolves the claims alleged in the Complaint, and requires the defendants to take specified actions designed to achieve and maintain compliance with the Clean Air Act and the applicable regulations. The proposed Consent Decree requires the defendants to perform audits to identify non-compliance at four facilities and to correct any violations identified. In addition, the defendants must pay a civil penalty of $179,099 and must complete a Supplemental Environmental Project designed to reduce volatile organic compound emissions at the Rabbit Gulch compressor station, located near the Altamont gas processing plant in Duchesne County, Utah.

The publication of this notice opens a period for public comment on the Consent Decree. Please address comments to the Assistant Attorney General, Environment and Natural Resources Division and refer to United States v. Kinder Morgan Altamont LLC and Colorado Interstate Gas Company, L.L.C., DJ. Ref. No. 90-5-2-1-11424. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $ 15.25 (25 cents per page reproduction cost) payable to the United States Treasury.

Robert Brook,
Assistant Section Chief, Environmental Enforcement Section, Environment and Natural Resources Division.

[FR Doc. 2018-05387 Filed 3-15-18; 8:45 am]

BILLING CODE 4410-15-P